DEPARTMENT OF HEALTH AND HUMAN SERVICES

Substance Abuse and Mental Health Services Administration

Fiscal Year (FY) 2023 Notice of Funding Opportunity Modification

AGENCY: Substance Abuse and Mental Health Services Administration, Department of Health and Human Services (HHS).

ACTION: Modification of the fiscal year (FY) 2022 state opioid response notice of funding opportunity (NOFO), TI-22-005.

SUMMARY: This notice is to inform the public that the Substance Abuse and Mental Health Services Administration (SAMHSA) has modified the FY 2022 State Opioid Response (SOR) NOFO (TI-22-005). The modifications include adding a new appendix with the FY 2023 allocations based on increased funding and amending the funding limitations/restrictions to increase the administrative costs (i.e., indirect costs) in FY 2023. The FY 2022 State Opioid Response Modified NOFO (TI-22-005) can be found at https://www.samhsa.gov/grants/grant-announcements/ti-22-005.

FOR FURTHER INFORMATION CONTACT: C. Danielle Johnson Byrd, MPH, Center for Substance Abuse Treatment, Substance Abuse and Mental Health Services Administration (240) 276-0300, OPIOIDSOR@samhsa.hhs.gov.

Authority: FY 2022 Consolidated Appropriations Act [Pub. L. 117-103] and FY 2023 Consolidated Appropriations Act [Pub. L. 117-328].

Dated: May 3, 2023.
Ann Ferrero,
Public Health Analyst.

[FR Doc. 2023-09739 Filed 5-5-23; 8:45 am]

BILLING CODE 4162-20-P